DEPARTMENT OF HEALTH AND HUMAN SERVICES

Substance Abuse and Mental Health Services Administration

Fiscal Year (FY) 2023 Notice of Supplemental Funding Opportunity

AGENCY: Substance Abuse and Mental Health Services Administration, HHS.

ACTION: Notice of intent to award supplemental funding.

SUMMARY: This notice is to inform the public that the Substance Abuse and Mental Health Services Administration (SAMHSA) is supporting administrative supplements to the 54 grant recipients funded under the FY 2022 Cooperative Agreements for States and Territories to Build Local 988 Capacity (988 State and Territory Grants) Notice of Funding Opportunity (NOFO) SM-22-015, which have a project end date of April 2024. This supplemental funding is within scope and is expected to increase and/or expand original workforce capacity, ease of access to services, contact demand, including coverage area, through phone, chat, and text, and contact answer rates for 988 crisis care. The 988 State and Territory Cooperative Agreement grant recipients are eligible to apply for awards from $458,333 to $2,000,000 for a total funding of $50,000,000 from the Bipartisan Safer Communities Act (BSCA).

The supplements will support 988 response and workforce expansion by improving 988 collaborations, infrastructure, hiring and retention, communications and marketing, and evaluation activities. These awards will help improve 988 and 911 coordination, especially in cases of emergency intervention due to suicidal behavior, improve state/territory infrastructure to answer 988 Lifeline chat and text request initiated within their state or territory, align communications and marketing of the 988 Lifeline in conjunction with SAMHSA and HHS's 988 communications and marketing strategy, help streamline access to mobile crisis and crisis response teams for all 988 crisis centers, assist the development and expansion of human resource systems to increase the pace of 988 recruitment and hiring, conduct root cause analyses on identified critical incidents contacting through the 988 system, support continuity of care throughout the larger crisis response system and improve follow up and referral outcomes to decrease suicide and ensure individuals are connected to post-contact care.

This is not a formal request for application. Assistance will only be provided to the 54 recipients funded in FY 2022 under the 988 State and Territory Cooperative Agreement NOFO SM-22-015 based on the receipt of a satisfactory application and associated budget that is approved by a review group.

Funding Opportunity Title: FY 2022 Cooperative Agreements for States and Territories to Build Local 988 Capacity NOFO SM 22-015.

Assistance Listing Number: 93.243.

Authority: Section 520E-3 of the Public Health Services (PHS) Act [290bb-36c], as amended.

Justification: SAMHSA is limiting eligibility for this supplemental funding to the 988 State and Territory grant recipients, which were funded in FY 2022 under the Cooperative Agreements for States and Territories to Build Local 988 Capacity, SM-22-015. These recipients provide leadership and oversee the current 988 and state- and territory-wide local crisis service systems. In addition, the recipients have the required active relationships with and can quickly provide fiscal resources directly to local and statewide Lifeline crisis centers for 988 response; thereby reducing burden on the nationwide network of Lifeline crisis centers, ensuring all those needing 988 services have awareness and access to localized care. Due to the requirements of the FY 2022 Cooperative Agreements for States and Territories to Build Local 988 Capacity, recipients are the only entities that can utilize these funds to successfully complete the required activities to improve 988 Lifeline crisis center workforce response and meet defined state and territory key performance indicators.

Contact: James Wright, LPC, Chief of Crisis Center Operations, Substance Abuse and Mental Health Services Administration, 5600 Fishers Lane, Rockville, MD 20857, telephone 240-276-1615; email: james.wright@samhsa.hhs.gov.

Dated: October 17, 2022.
Carlos Castillo,
Public Health Analyst.

[FR Doc. 2022-22860 Filed 10-20-22; 8:45 am]

BILLING CODE 4162-20-P